PEACE CORPS

Proposed Collection Renewal; Correction

ACTION: 60-day notice and request for comments; correction.

SUMMARY: The Peace Corps published a document in the Federal Register of June 28, 2010, [FR Doc. 2010-15584, pages 36721-36722], concerning a proposal to renew three currently approved collections of information: 1. World Wise Schools Conference Online Registration Form (OMB Control No. 0420-0514); Speakers Match: Online Request for a Speaker Form (OMB Control No. 0420-0539); and Correspondence Match Educator Online Enrollment Form: Educator Sign Up Form (OMB Control No. 0420-0540). The document contained an incorrect OMB Control Number for the World Wise Schools Conference—Online Registration Form. The correct information should read: 1. Title: World Wise Schools Conference—Online Registration Form (OMB Control Number: 0420-0541). The remaining two information collections are correct as listed. The dates for comments has been extended because of the correction made to the notice.

DATES: Comments must be submitted on or before September 14, 2010.

ADDRESSES: Comments should be addressed to Marjorie Anctil, Director of World Wise Schools, Peace Corps, 1111 20th Street, NW., Washington, DC 20526. Marjorie Anctil can be contacted by telephone at 202-692-1461 or e-mail at manctil@peacecorps.gov. E-mail comments must be made in text and not in attachments.

FOR FURTHER INFORMATION CONTACT: Marjorie Anctil, at Peace Corps address above.

SUPPLEMENTARY INFORMATION: Proposal to renew the following currently approved collections of information:

1. Title: World Wise Schools Conference—Online Registration Form.

OMB Control Number: 0420-0541.

Respondents: Educators and employees of governmental and nongovernmental organizations interested in promoting global education in the classroom.

Estimated annual number of respondents: 300.

Estimated average time to respond: 10 minutes.

Frequency of response: Annually.

Estimated total annual burden hours: 50 hours.

General description of collection: The information collected is used to officially register attendees to the annual World Wise Schools Conference. The information is used as a record of attendance.

2. Title: Speakers Match: Online Request for a Speaker Form.

OMB Control Number: 0420-0539.

Type of Review: Regular—extension, without change, currently approved collection.

Respondents: Educators interested in promoting global education in the classroom.

Estimated annual number of responses: 300.

Estimated average time to respond: 10 minutes.

Frequency of response: Annually.

Estimated annual burden hours: 50 hours.

General description of collection: The information collected is used to make suitable matches between the educators and returned Peace Corps Volunteers for the Speakers Match program.

3. Title: Correspondence Match Educator Online Enrollment Form: Educator Sign Up Form.

OMB Control Number: 0420-0540.

Respondents: Educators interested in promoting global education in the classroom.

Estimated annual number of responses: 10,000.

Estimated average time to respond: 10 minutes.

Frequency of response: Annually.

Estimated annual burden hours: 1667 hours.

General description of collection: The information collected is used to make suitable matches between the educators and currently serving Peace Corps Volunteers.

Request for Comment: Peace Corps invites comments on whether the proposed collections of information are necessary for proper performance of the functions of the Peace Corps and the Paul D. Coverdell World Wise Schools, including whether the information will have practical use; the accuracy of the agency's estimate of the burden of the proposed collection of information, including the validity of the information to be collected; and, ways to minimize the burden of the collection of information on those who are to respond, including through the use of automated collection techniques, when appropriate, and other forms of information technology.

This notice is issued in Washington, DC on July 9, 2010.
Earl W. Yates,
Associate Director for Management.

[FR Doc. 2010-17370 Filed 7-15-10; 8:45 am]

BILLING CODE 6051-01-P